DEPARTMENT OF HEALTH AND HUMAN SERVICES

Agency for Toxic Substances and Disease Registry

Meeting; Postponement

Citizens Advisory Committee on Public Health Service (PHS) Activities and Research at Department of Energy (DOE) Sites: Oak Ridge Reservation Health Effects Subcommittee (ORRHES): the meeting originally planned for May 6, 2002, has been postponed until June 18, 2002.

The items originally scheduled for discussion on May 6th will be presented and discussed when the subcommittee meets in Oak Ridge on June 18, 2002.

FOR FURTHER INFORMATION CONTACT: La Freta Dalton, Designated Federal Official, or Marilyn Palmer, Committee Management Specialist, Division of Health Assessment and Consultation, ATSDR, 1600 Clifton Road, NE., M/S E-54, Atlanta, Georgia 30333, telephone 1-888-42-ATSDR(28737), fax 404/498-1744.

The Director, Management Analysis and Services Office, has been delegated the authority to sign Federal Register notices pertaining to announcements of meetings and other committee management activities, for both the Centers for Disease Control and Prevention and the Agency for Toxic Substances and Disease Registry.

Dated: April 22, 2002.
Alvin Hall,
Acting Director, Management Analysis and Services Office, Centers for Disease Control and Prevention.

[FR Doc. 02-10271 Filed 4-25-02; 8:45 am]

BILLING CODE 4163-18-P